OCCUPATIONAL SAFETY AND HEALTH REVIEW COMMISSION

Government Performance and Results Act of 1993; Revised Strategic Plan

AGENCY: Occupational Safety and Health Review Commission.

ACTION: Notice of request for commission.

SUMMARY: The Occupational Safety and Health Review Commission (Review Commission) announces the availability of its revised Strategic Plan for fiscal years 2003-2008 for public comment. Prepared in accordance with the Government Performance and Results Act of 1993, the revised Strategic Plan may be viewed at the Review Commission's Web site, http://www.oshrc.gov under “What's New.” The revised Strategic Plan defines the Review Commission's strategic goal and objectives, and the methods for achieving them. The Review Commission seeks the views of those who practice before it and those who are affected by its case dispositions.

DATES: Comments should be submitted on or before June 16, 2003. The revised Strategic Plan will become effective in October 2003, without any further notice in the Federal Register, unless comments or government approval procedures necessitate otherwise.

ADDRESSES: Submit any written comments to Patricia A. Randle, Executive Director, Occupational Safety and Health Review Commission, 1120 20th St., NW., Ninth Floor, Washington, DC 20036-3419.

FOR FURTHER INFORMATION CONTACT: Patricia A. Randle, Executive Director, Occupational Safety and Health Review Commission, 1120 20th St., NW., Ninth Floor, Washington, DC 20036-3419, telephone (202) 606-5380.

SUPPLEMENTARY INFORMATION: The Government Performance and Results Act requires the development of strategic plans and performance measures in the Federal government. It also requires that agencies review and update their strategic plans every three years.

The Review Commission continues to pursue its commitment to providing superior service to the public. This plan changes the 2000-2005 strategic goals and performance objectives. It maintains and revises the public service goal, and eliminate its two strategic goals—external and organizational. However, the Review Commission will continue to make the strategic goals a priority within the agency and its progress with respect to them will be monitored for effectiveness. The revised Strategic Plan is intended to focus on the Review Commission's primary public service mission and will enhance and improve the agency's effectiveness and public accountability.

Your comments on the revised Strategic Plan will be useful and will provide the agency with additional information to facilitate the agency's continued ability to provide superior public service.

(Authority: 5 U.S.C. 306(d))
Dated: May 12, 2003.
W. Scott Railton,
Chairman.

[FR Doc. 03-12258 Filed 5-15-03; 8:45 am]

BILLING CODE 7600-01-M